LEGAL SERVICES CORPORATION

Sunshine Act Meeting of the Board of Directors

Time and Date: The Board of Directors of the Legal Services Corporation will meet on September 8, 2001. The meeting will begin at 10 a.m. and continue until conclusion of the Board's agenda.

Location: Hilton Alexandria Mark Center, 5000 Seminary Road, Alexandria, Virginia.

Status of Meeting: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act [5 U.S.C. 552b(c)(10)] and the corresponding provisions of the Legal Services Corporation's implementing regulation [45 CFR 1622.5(h)]. A copy of the General Counsel's Certification that the closing is authorized by law will be available upon request.

Matters To Be Considered:

Open Session

1. Approval of agenda.

2. Approval of the minutes of the Board's meeting of June 30, 20001.

3. Approval of the minutes of the Executive Session of the Board's meeting of June 30, 2001.

4. Chairman's Report.

5. Members' Report.

6. Inspector General's Report.

7. President's Report.

8. Consider and act on the report of the Board's Committee on Provision for the Delivery of Legal Services.

9. Consider and act on the report of the Board's Operations and Regulations Committee.

10. Consider and act on the report of the Board's Finance Committee.

11. Consider and act on an interim report of the Task Force on State Planning and Configuration.

12. Consider and act on an appointment to the Board of Directors of Friends of Legal Services Corporation.

13. Consider and act on the change in location of the April 2002 Board of Directors meeting.

Closed Session

14. Briefing ¹ by the Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 & 1622.3.

15. Consider and act on the Office of Legal Affairs' report on potential and pending litigation involving LSC.

16. Consider and act on the request of a Corporate officer for permission to accept token compensation for teaching a college course on his own time.

Open Session

17. Consider and act on other business.

18. Public Comment.

Contact Person for Information: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: August 31, 2001.
Victor M. Fortuno,
Vice President for Legal Affairs, General Counsel and Corporate Secretary.

[FR Doc. 01-22435 Filed 8-31-01; 4:08 pm]

BILLING CODE 7050-01-M